DEPARTMENT OF THE INTERIOR

National Park Service

[NPS-WASO-NAGPRA-NPS0040259; PPWOCRADN0-PCU00RP14.R50000]

Notice of Inventory Completion: University of Missouri, Museum of Anthropology, Columbia, MO

AGENCY: National Park Service, Interior.

ACTION: Notice.

SUMMARY: In accordance with the Native American Graves Protection and Repatriation Act (NAGPRA), the University of Missouri, Museum of Anthropology has completed an inventory of human remains and associated funerary objects and has determined that there is a cultural affiliation between the human remains and associated funerary objects and Indian Tribes or Native Hawaiian organizations in this notice.

DATES: Repatriation of the human remains and associated funerary objects in this notice may occur on or after July 7, 2025.

ADDRESSES: Send written requests for repatriation of the human remains and associated funerary objects in this notice to Dr. Candace Sall, University of Missouri Museum of Anthropology, 1020 Lowry Street, Columbia, MO 65211, email nagpra@missouri.edu.

SUPPLEMENTARY INFORMATION: This notice is published as part of the National Park Service's administrative responsibilities under NAGPRA. The determinations in this notice are the sole responsibility of the University of Missouri, Museum of Anthropology, and additional information on the determinations in this notice, including the results of consultation, can be found in its inventory or related records. The National Park Service is not responsible for the determinations in this notice.

Abstract of Information Available

Human remains representing, at least, 326 individuals have been identified. The 165 lots of the total 16,291 associated funerary objects are 10 lots of bifaces, one celt, 10 lots of debitage, eight lots of flake tools, three lots of drills, four lots of groundstone, three hammerstones, five lots of hematite, four lots of limestone, three lots of limonite or ochre, three lots of lithic cores, one mano, eight lots of projectile points or knives, one lot of unmodified quartz, five lots of sandstone, one lot of stone abraders, 10 lots of unmodified rocks, one historic ceramic fragment, three lots of clay pipes, nine lots of pottery sherds, one ceramic vessel, one lot of antler tools, two lots of bone beads, nine lots of faunal fragments, seven lots of shell fragments, two lots of shell beads, three lots of crinoids, one lot of crinoid beads, four lots of gastropod or snail shells, one lead ball, four lots of metal fragments or nails, one glass bottle, one lot of glass fragments, six lots of seeds, five lots of charred wood, one lot of fossils, one mortuary blade, four lots of burned earth or daub, eight lots of charcoal fragments or samples, two lots of flotation samples, and eight lots of soil samples.

The individuals and associated funerary objects were removed from 12 sites in Boone and Howard counties, Missouri, on several occasions between 1935 and 1980, including Montgomery Site (23BO1), 23BO4, 23BO5, Triangulation Point Mound (23BO7), Gibb Mound (23BO8), Gordon Tract Site (also known as Hinkson Creek Site, 23BO303), Campsite Site (23BO378), 23BO960, the Demeter Collection (23BOUNPROV1), Don Bell Cave Site (23HD1), 23HD3, and Walter Site (23HD38).

Cultural Affiliation

Based on the information available and the results of consultation, cultural affiliation is clearly identified by the information available about the human remains and associated funerary objects described in this notice.

Determinations

The University of Missouri, Museum of Anthropology has determined that:

• The human remains described in this notice represent the physical remains of 326 individuals of Native American ancestry.

• The 165 lots of objects described in this notice are reasonably believed to have been placed intentionally with or near individual human remains at the time of death or later as part of the death rite or ceremony.

• There is a clear connection between the human remains and associated funerary objects described in this notice and The Osage Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 7, 2025. If competing requests for repatriation are received, the University of Missouri, Museum of Anthropology must determine the most appropriate requestor prior to repatriation. Requests for joint repatriation of the human remains and associated funerary objects are considered a single request and not competing requests. The University of Missouri, Museum of Anthropology is responsible for sending a copy of this notice to the Indian Tribes and Native Hawaiian organizations identified in this notice and any other consulting parties.

Authority: Native American Graves Protection and Repatriation Act, 25 U.S.C. 3003, and the implementing regulations, 43 CFR 10.10.

Dated: May 21, 2025.
Melanie O'Brien,
Manager, National NAGPRA Program.

[FR Doc. 2025-10132 Filed 6-3-25; 8:45 am]

BILLING CODE 4312-52-P